DEPARTMENT OF ENERGY

Federal Energy Regulatory Commission

Combined Notice of Filings No. 1

February 2, 2010.

Take notice that the Commission has received the following Natural Gas Pipeline Rate and Refund Report filings:

Docket Numbers: RP10-342-000.

Applicants: Elba Express Company, LLC.

Description: Elba Express Company, LLC submits Original Sheet 1 et al. to its FERC Gas Tariff, Original Volume 1 to be effective 3/1/10.

Filed Date: 01/29/2010.

Accession Number: 20100201-0209.

Comment Date: 5 p.m. Eastern Time on Wednesday, February 10, 2010.

Docket Numbers: RP10-343-000.

Applicants: National Fuel Gas Supply Corporation.

Description: National Fuel Gas Supply Corporation submits 132nd Revised Sheet No. 9 to its FERC Gas Tariff, Fourth Revised Volume No. 1 with a proposed effective date of 2/1/2010.

Filed Date: 01/29/2010.

Accession Number: 20100201-0201.

Comment Date: 5 p.m. Eastern Time on Wednesday, February 10, 2010.

Docket Numbers: RP10-344-000.

Applicants: Dauphin Island Gathering Partners.

Description: Dauphin Island Gathering Partners submits Fifty-First Revised Sheet No. 9 et al. to its FERC Gas Tariff, First Revised Volume No. 1 to be effective 2/1/2010.

Filed Date: 01/29/2010.

Accession Number: 20100201-0202.

Comment Date: 5 p.m. Eastern Time on Wednesday, February 10, 2010.

Docket Numbers: RP10-345-000.

Applicants: Great Lakes Gas Transmission Limited Partnership.

Description: Great Lakes Gas Transmission Limited Partnership submits its Transporter's Use Percentages Report for the six-month period from July 1, 2009 through December 31, 2009.

Filed Date: 01/29/2010.

Accession Number: 20100129-5244.

Comment Date: 5 p.m. Eastern Time on Wednesday, February 10, 2010.

Docket Numbers: RP10-346-000.

Applicants: Texas Gas Transmission, LLC.

Description: Texas Gas Transmission, LLC submits amendment to a negotiated rate letter agreement executed by Texas Gas and Northern Illinois Gas Company.

Filed Date: 01/29/2010.

Accession Number: 20100201-0203.

Comment Date: 5 p.m. Eastern Time on Wednesday, February 10, 2010.

Docket Numbers: RP10-347-000.

Applicants: Equitrans, L.P.

Description: Equitrans, L.P. submits Fifteenth Revised Sheet No. 11 et al.

Filed Date: 01/29/2010.

Accession Number: 20100201-0204

Comment Date: 5 p.m. Eastern Time on Wednesday, February 10, 2010.

Docket Numbers: RP10-348-000.

Applicants: Equitrans, L.P.

Description: Equitrans, L.P. submits Second Revised Sheet No. 318 to FERC Gas Tariff, Original Volume 1, to be effective 2/1/2010.

Filed Date: 01/29/2010.

Accession Number: 20100201-0205.

Comment Date: 5 p.m. Eastern Time on Wednesday, February 10, 2010.

Docket Numbers: RP10-349-000.

Applicants: Kinder Morgan Interstate Gas Trans. LLC.

Description: Kinder Morgan Interstate Gas Transmission LLC submits petition for limited waiver of tariff provision.

Filed Date: 01/29/2010.

Accession Number: 20100201-0206.

Comment Date: 5 p.m. Eastern Time on Wednesday, February 10, 2010.

Docket Numbers: RP10-350-000.

Applicants: Southern LNG, Inc.

Description: Southern LNG, Inc submits Exhibit F to SLNG-1 Service Agreement SLNG11 dated May 27, 2003 and Exhibit F to SLNG-3 Service Agreement SLNG25 dated October 5, 2007.

Filed Date: 01/29/2010.

Accession Number: 20100201-0207.

Comment Date: 5 p.m. Eastern Time on Wednesday, February 10, 2010.

Docket Numbers: RP10-351-000.

Applicants: Transcontinental Gas Pipe Line Company, LLC.

Description: Transcontinental Gas Pipe Line Company, LLC submits Second Revised Sheet No. 396 et al. to its FERC Gas Tariff, Fourth Revised Volume No. 1, to be effective 3/1/2010.

Filed Date: 01/29/2010.

Accession Number: 20100201-0208.

Comment Date: 5 p.m. Eastern Time on Wednesday, February 10, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-4633 Filed 3-4-10; 8:45 am]

BILLING CODE 6717-01-P